DEPARTMENT OF ENERGY

Federal Energy Regulatory Commission

Combined Notice of Filings #1

August 17, 2005.

Take notice that the Commission received the following electric rate filings:

Docket Numbers: ER01-205-009; ER98-2640-007; ER98-4590-005; ER99-1610-012; EL05-115-000.

Applicants: Xcel Energy Services, Inc.; Northern States Power Company and Northern States Power Company (Wisconsin); Public Service Company of Colorado; Southwestern Public Service Company; Xcel Energy Services Inc., et al.

Description: Xcel Energy Services, Inc., on behalf of itself and the above-listed companies, submits a Notice of Withdrawal of Request for Market-Based Rate Authority in Control Area, Intent to Transact Under Cost-Based Rates, and Request to Terminate Proceedings.

Filed Date: 08/01/2005.

Accession Number: 20050801-5116.

Comment Date: 5 p.m. eastern time on Thursday, September 1, 2005.

Docket Numbers: ER05-1325-000.

Applicants: Southern California Edison Company.

Description: Southern California Edison Company submits revisions to its Wholesale Distribution Access Tariff, including its proposed Standard Small Generator Agreement and its proposed Standard Small Generator Interconnection Procedurest.

Filed Date: 08/12/2005.

Accession Number: 20050816-0077.

Comment Date: 5 p.m. eastern time on Friday, September 02, 2005.

Docket Numbers: ER05-1326-000.

Applicants: CornerStone Energy General Partners, LLC.

Description: CornerStone Energy General Partners, LLC submits an application for and order granting market-based rate authority, waiving regulations and granting blanket approvals.

Filed Date: 08/12/2005.

Accession Number: 20050816-0063.

Comment Date: 5 p.m. eastern time on Friday, September 02, 2005.

Docket Numbers: ER05-1327-000.

Applicants: Southern California Edison Company.

Description: Southern California Edison Company (SCE) submits the Nandina Avenue Wholesale Distribution Load Interconnection Facilities Agreement and Service Agreement for Wholesale Distribution Service between SCE and the City of Moreno Valley, California.

Filed Date: 08/12/2005.

Accession Number: 20050816-0064.

Comment Date: 5 p.m. eastern time on Friday, September 02, 2005.

Docket Numbers: ER05-1328-000.

Applicants: Central Maine Power Company.

Description: Central Maine Power submits an unexecuted Local Network Transmission Service Agreement and an unexecuted Local Network Agreement entered into with Mr. Israel Feldmus.

Filed Date: 08/12/2005.

Accession Number: 20050816-0066.

Comment Date: 5 p.m. eastern time on Friday, September 02, 2005.

Docket Numbers: ER05-1329-000.

Applicants: Florida Power & Light Company.

Description: Florida Power & Light Company submits revised tariff sheets adopting the Commission's changes, without modification, to the standard large generator interconnection procedures and agreement.

Filed Date: 08/12/2005.

Accession Number: 20050816-0065.

Comment Date: 5 p.m. eastern time on Friday, September 02, 2005.

Docket Numbers: ER05-1330-000.

Applicants: MidAmerican Energy Company.

Description: MidAmerican Energy Company submits revisions to its Open Access Transmission Tariff to include minor changes to the pro forma Large Generator Interconnection Procedures and Large Generator Interconnection Agreement.

Filed Date: 08/12/2005.

Accession Number: 20050816-0067.

Comment Date: 5 p.m. eastern time on Friday, September 02, 2005.

Docket Numbers: ER05-1331-000.

Applicants: Tampa Electric Company.

Description: Tampa Electric Company submits revised tariff sheets to its Open Access Transmission Tariff to include revisions to the Large Generator Interconnection Procedures and Large Generator Interconnection Agreement.

Filed Date: 08/12/2005.

Accession Number: 20050816-0068.

Comment Date: 5 p.m. eastern time on Friday, September 02, 2005.

Docket Numbers: ER05-1332-000.

Applicants: Duke Energy Corporation.

Description: Duke Energy Corporation on behalf of Duke Electric Transmission submits revised tariff sheets incorporating the changes set forth in Appendix A of the Commission's Order No. 2003-C.

Filed Date: 08/12/2005.

Accession Number: 20050816-0069.

Comment Date: 5 p.m. eastern time on Friday, September 02, 2005.

Docket Numbers: ER05-1340-000.

Applicants: Nevada Power Company; Sierra Pacific Resources Operating Company.

Description: Nevada Power Company and Sierra Pacific Power Company submit amendments to the Sierra Pacific Resources Operating Companies Open Access Transmission Tariff, Third Revised Volume No. 1.

Filed Date: 08/12/2005.

Accession Number: 20050816-0226.

Comment Date: 5 p.m. eastern time on Friday, September 02, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Linda Mitry,
Deputy Secretary.

[FR Doc. E5-4602 Filed 8-22-05; 8:45 am]

BILLING CODE 6717-01-P